DEPARTMENT OF STATE

[Public Notice: 12824]

Foreign Terrorist Organization Designations of Harakat al-Nujaba, Kata'ib Sayyid al-Shuhada, Harakat Ansar Allah al-Awfiya, and Kata'ib al-Imam Ali

Based upon a review of the Administrative Records assembled in this matter, and in consultation with the Attorney General and the Secretary of the Treasury, I have concluded that there is a sufficient factual basis to find that the relevant circumstances described in section 219 of the Immigration and Nationality Act, as amended (hereinafter “INA”) (8 U.S.C. 1189), exist with respect to: Harakat al-Nujaba (also known as Harakat Hezbollah al-Nujaba, Movement of the Noble Ones Hezbollah, Golan Liberation Brigade, Ammar ibn Yasir Brigade, Imam al-Hasan al-Mujtaba Brigade, al-Hamad Brigade, al-Nujaba TV, The Movement of the Noble Ones); Kata'ib Sayyid al-Shuhada (also known as KSS, Battalion of the Sayyid's Martyrs, The Master of the Martyrs Brigade, Kata'ib Abu Fadl al-Abbas, Kata'ib Karbala); Harakat Ansar Allah al-Awfiya (also known as Harakat Ansar Allah al Awfiya fi Souriya, Ansar Alah Alofia, Kayan al-Sadiq wa al-Ataa, Harakat Al-Sadiq wa al-Ataa, God's Loyal Supporters, The Movement of the Loyal Partisans of God, Honesty and Giving Entity); and Kata'ib al-Imam Ali (also known as al-Imam Ali Battalions, Imam Ali Brigades, Kataib Rouh Allah Issa Ibn Miriam).

Therefore, I hereby designate the aforementioned organizations and their respective aliases as Foreign Terrorist Organizations pursuant to section 219 of the INA.

This determination shall be published in the Federal Register. The designations go into effect upon publication.

Dated: September 9, 2025.
Marco Rubio,
Secretary of State.

[FR Doc. 2025-18014 Filed 9-17-25; 8:45 am]

BILLING CODE 4710-AD-P